DEPARTMENT OF LABOR

Employment and Training Administration

[TA-W-64,458]

Continental Structural Plastics, Including On-Site Leased Workers From Kelly Services and Doepker Group, Inc., Formerly Known As Time Staffing, North Baltimore, OH; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on December 31, 2008, applicable to workers of Continental Structural Plastics, North Baltimore, Ohio. The workers produce exterior body panels and under body structural components for automobiles. The notice was published in the Federal Register on January 26, 2009 (74 FR 4463). The notice was amended on December 17, 2010 to include on-site leased workers. The notice was published in the Federal Register on January 3, 2011 (76 FR 175)

At the request of the State agency, the Department reviewed the certification for workers of the subject firm. New information shows that Time Staffing is now known as Doepker Group, Inc., and that the worker group includes on-site leased workers who had their wages reported through an unemployment insurance (UI) tax account under either name.

Accordingly, the department is amending this certification to properly reflect this matter. The intent of the Department's certification is to include all workers of the subject firm who were adversely affected as an upstream supplier to a trade certified primary firm.

The amended notice applicable to TA-W-64,458 is hereby issued as follows:

All workers of Continental Structural Plastics, including on-site leased workers from Kelly Services and Doepker Group, Inc., formerly known as Time Staffing, North Baltimore, Ohio, who became totally or partially separated from employment on or after November 11, 2007, through December 31, 2010, are eligible to apply for adjustment assistance under Section 223 of the Trade Act of 1974, and are also eligible to apply for alternative trade adjustment assistance under Section 246 of the Trade Act of 1974.

Signed at Washington, DC, this 24th day of February, 2011.
Michael W. Jaffe,
Certifying Officer, Office of Trade Adjustment Assistance.

[FR Doc. 2011-5478 Filed 3-9-11; 8:45 am]

BILLING CODE 4510-FN-P